OFFICE OF GOVERNMENT ETHICS

Agency Information Collection Activities; Proposed Collection; Comment Request for a Modified OGE Form 278e Executive Branch Personnel Public Financial Disclosure Report

AGENCY: Office of Government Ethics (OGE).

ACTION: Notice of request for agency and public comments.

SUMMARY: After this first round notice and public comment period, the Office of Government Ethics (OGE) intends to submit a modified OGE Form 278e Executive Branch Personnel Public Financial Disclosure Report to the Office of Management and Budget (OMB) for review and approval of a three-year extension under the Paperwork Reduction Act of 1995.

DATES: Written comments by the public and the agencies on this proposed extension are invited and must be received on or before December 16, 2016.

ADDRESSES: Comments may be submitted to OGE, by any of the following methods:

Email: usoge@oge.gov (Include reference to “OGE Form 278e paperwork comment” in the subject line of the message.)

Fax: 202-482-9237, Attn: Brandon Steele.

Mail, Hand Delivery/Courier: Office of Government Ethics, 1201 New York Avenue NW., Suite 500, Attention: Brandon Steele, Assistant Counsel, Washington, DC 20005-3917.

Instructions: Comments may be posted on OGE's Web site, www.oge.gov. Sensitive personal information, such as account numbers or Social Security numbers, should not be included. Comments generally will not be edited to remove any identifying or contact information.

FOR FURTHER INFORMATION CONTACT: Brandon Steele at the U.S. Office of Government Ethics; telephone: 202-482-9209; TTY: 800-877-8339; Fax: 202-482-9237; Email: basteele@oge.gov. An electronic copy of the OGE Form 278e is available in the Forms Library section of OGE's Web site at http://www.oge.gov. A paper copy may also be obtained, without charge, by contacting Mr. Steele.

SUPPLEMENTARY INFORMATION:

Title: Executive Branch Personnel Public Financial Disclosure Report.

Form Number: OGE Form 278e.

OMB Control Number: 3209-0001.

Type of Information Collection: Extension with modifications of a currently approved collection.

Type of Review Request: Regular.

Respondents: Private citizen Presidential nominees to executive branch positions subject to Senate confirmation; other private citizens who are potential (incoming) Federal employees whose positions are designated for public disclosure filing; those who file termination reports from such positions after their Government service ends; and Presidential and Vice-Presidential candidates.

Estimated Annual Number of Respondents: 4,884.

Estimated Time per Response: 3 hours.

Estimated Total Annual Burden: 14,652 hours.

Abstract: The OGE Form 278 collects information from certain officers and high-level employees in the executive branch for conflicts of interest review and public disclosure. The form is also completed by individuals who are nominated by the President for high-level executive branch positions requiring Senate confirmation and new entrants to other public reporting positions in the executive branch. The financial information collected relates to: Assets and income; transactions; gifts, reimbursements and travel expenses; liabilities; agreements or arrangements; outside positions; and compensation over $5,000 paid by a source—all subject to various reporting thresholds and exclusions. The information is collected in accordance with section 102 of the Ethics in Government Act, 5 U.S.C. app. section 102, as amended by the Stop Trading on Congressional Knowledge Act of 2012 (Pub. L. 112-105) (STOCK Act) and OGE's implementing financial disclosure regulations at 5 CFR part 2634.

In 2013, OGE sought and received approval for the OGE Form 278e, an electronic version of the Form 278, implemented pursuant to the e-filing system mandated under section 11(b) of the STOCK Act. The OGE Form 278e collects the same information as the OGE Form 278. It is a streamlined output report format that presents only the filer's inputs in given categories and does not report other categories not selected by the filer. In 2014, OGE sought and received approval to incorporate the OGE Form 278e into its new Integrity e-filing application. Integrity has been in use since January 1, 2015, and OGE now requires filers to use a version of the OGE Form 278e rather than the old OGE Form 278.

OGE is proposing to make minor modifications to the OGE Form 278e to update the Privacy Act statement, improve the instructions, and make the form more user-friendly. Specifically, OGE proposes to change the titles to Part 2 and Part 5 on all versions of the form. With respect to the Integrity version of the form, OGE proposes to remove the “Owner” column from Part 5 and Part 8. Finally, with respect to the Excel/PDF version of the form, OGE proposes clarifying the reporting requirements in the instructions to Part 4 and correcting several minor typographical errors.

Request for Comments: Agency and public comment is invited specifically on the need for and practical utility of this information collection, the accuracy of OGE's burden estimate, the enhancement of quality, utility and clarity of the information collected, and the minimization of burden (including the use of information technology). Comments received in response to this notice will be summarized for, and may be included with, the OGE request for extension of OMB paperwork approval. The comments will also become a matter of public record.

Approved: October 12, 2016.
Walter M. Shaub, Jr.,
Director, Office of Government Ethics.

[FR Doc. 2016-25053 Filed 10-14-16; 8:45 am]

BILLING CODE 6345-03-P